DEPARTMENT OF THE INTERIOR

Bureau of Land Management

[CO-930-1430-ET; COC-28257]

Public Land Order No. 7476; Revocation of Bureau of Land Management Order dated December 22, 1949; Colorado

AGENCY: Bureau of Land Management, Interior.

ACTION: Public land order.

SUMMARY: This order revokes, in its entirety, a Bureau of Land Management order as to the remaining 328.13 acres of public lands withdrawn for the Bureau of Reclamation's Missouri Basin Project, Bijou No. 2 Reservoir. The lands are no longer needed for reclamation purposes.

EFFECTIVE DATE: January 29, 2001.

FOR FURTHER INFORMATION CONTACT: Doris Chelius, BLM Colorado State Office, 2850 Youngfield Street, Lakewood, Colorado 80215-7093, 303-239-3706.

By virtue of the authority vested in the Secretary of the Interior by Section 204 of the Federal Land Policy and Management Act of 1976, 43 U.S.C. 1714 (1994), it is ordered as follows:

1. The Bureau of Land Management Order dated December 22, 1949, which withdrew the following described lands for the Bureau of Reclamation's Missouri Basin Project, Bijou No. 2 Reservoir, is hereby revoked in its entirety:

Sixth Principal Meridian

T. 4 N., R. 59 W.,

Sec. 6, lot 4;

Sec. 21, SE¼SE¼;

Sec. 22, SW¼SW¼;

Sec. 27, NW¼NW¼, E½SW¼, and W½SE¼.

The areas described aggregate 328.13 acres in Morgan County.

2. At 9 a.m. on January 29, 2001, the lands will be opened to the operation of the public land laws generally, subject to valid existing rights, the provisions of existing withdrawals, other segregations of record, and the requirements of applicable law. All valid applications received at or prior to 9 a.m. on January 29, 2001, shall be considered as simultaneously filed at that time. Those received thereafter shall be considered in the order of filing.

3. At 9 a.m. on January 29, 2001, the lands will be opened to location and entry under the United States mining laws subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determination in local courts.

Dated: December 19, 2000.
Sylvia V. Baca,
Assistant Secretary of the Interior.

[FR Doc. 00-33245 Filed 12-27-00; 8:45 am]

BILLING CODE 4310-JB-P